OFFICE OF MANAGEMENT AND BUDGET

Budget Analysis Branch; Sequestration Update Report

AGENCY: Office of Management and Budget—Budget Analysis Branch.

ACTION: Notice of transmittal of the Sequestration Update Report to the President and Congress for Fiscal Year 2002.

SUMMARY: Pursuant to Section 254(b) of the Balanced Budget and Emergency Control Act of 1985, as amended, the Office of Management and Budget hereby reports that it has submitted its Sequestration Update Report for Fiscal Year 2002 to the President, the Speaker of the House of Representatives, and the President of the Senate.

FOR FURTHER INFORMATION CONTACT: Sarah Lee, Budget Analysis Branch—202/395-3674.

Dated: August 23, 2001.
Cynthia Christian,
Assistant Director for Administration.

[FR Doc. 01-21737 Filed 8-28-01; 8:45 am]

BILLING CODE 3110-01-P